DEPARTMENT OF COMMERCE

National Oceanic and Atmospheric Administration

[RTID 0648-XE683]

Southeast Data, Assessment, and Review (SEDAR); Public Meeting; Correction

AGENCY: National Marine Fisheries Service (NMFS), National Oceanic and Atmospheric Administration (NOAA), Commerce.

ACTION: Notice; correction.

SUMMARY: This notice contains corrections to the notice announcing the SEDAR 101 Data Scoping Webinar for HMS Sandbar Shark published in the Federal Register on March 3, 2025.

DATES: March 31, 2025.

FOR FURTHER INFORMATION CONTACT: Emily Ott, SEDAR Coordinator; (843) 571-4366; email: Emily.ott@safmc.net.

SUPPLEMENTARY INFORMATION:

Corrections

In the Federal Register of March 3, 2025, in FR Doc. 2025-03328, make the following corrections:

1. On page 11044, in the second column, correct the subject heading to read: “Southeast Data, Assessment, and Review (SEDAR); Public Meeting.”

2. On page 11044, in the second and third columns, in the SUPPLEMENTARY INFORMATION section, the two references to the fishery management councils are corrected to read: “Gulf, South Atlantic, and Caribbean Fishery Management councils.”

Authority: 16 U.S.C. 1801 et seq.

Dated: March 25, 2025.
Rey Israel Marquez,
Acting Deputy Director, Office of Sustainable Fisheries, National Marine Fisheries Service.

[FR Doc. 2025-05443 Filed 3-26-25; 4:15 pm]

BILLING CODE 3510-22-P